DEPARTMENT OF ENERGY

Federal Energy Regulatory Commission

[Docket No. RP09-318-000]

Northern Natural Gas Company; Notice of Technical Conference

April 7, 2009.

Take notice that the Commission Staff will convene a technical conference in the above-referenced proceeding on Tuesday, April 21, 2009, at 10 a.m. (EST), in a room to be designated at the offices of the Federal Energy Regulatory Commission, 888 First Street, NE., Washington, DC 20426.

The technical conference will afford the Commission staff and the parties to the proceeding an opportunity to discuss all of the issues raised by Northern Natural Gas Company's (Northern) filing, including but not limited to the proposed increase in the Market Area 2009 summer season fuel percentage. At the technical conference, Northern should be prepared to fully explain its methodology for determining the periodic adjustments for fuel and provide a clear explanation as to the basis of the increase in the Market Area 2009 summer season fuel percentage. Any party proposing alternatives to Northern's proposed reimbursement adjustment and its methodology should be prepared to similarly support its position.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Jacob Silverman at (202) 502-8445 or e-mail Jacob Silverman@ferc.gov.

Kimberly D. Bose,
Secretary.

[FR Doc. E9-8459 Filed 4-13-09; 8:45 am]

BILLING CODE 6717-01-P